DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance, 8/1/2008 Through 8/31/2008
Firm | Address | Date accepted for filing | Products
Design Plastics, Inc | 3550 Keystone Drive, Omaha, NE 68134 | 8/27/2008 | Parts for transportation industry.
Oak Canyon Manufacturing, Inc | 3021 N. 29th Dr., Phoenix, AZ 85017-5504 | 8/28/2008 | Wood bookcases, entertainment centers, home office furniture, and some wood non-home office furniture.
Rehab Plus Therapeutic Products dba: RPS | 726 Donald Preston Dr., Wolfforth, TX 79382 | 8/27/2008 | Fire and chemical protective apparel and safety head gear.
DRW Machines, Inc | 835 Monty, Shreveport, LA 71107 | 8/28/2008 | Safety and relief valves and casing heads.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: September 4, 2008.
William P. Kittredge,
Program Officer for TAA.

[FR Doc. E8-20976 Filed 9-9-08; 8:45 am]

BILLING CODE 3510-24-P